DEPARTMENT OF STATE

[Public Notice 6310]

Announcement of a Meeting of the International Telecommunication Advisory Committee

SUMMARY: This notice announces a meeting of the International Telecommunication Advisory Committee (ITAC) to prepare for the International Telecommunication Union (ITU) Council Meeting.

The ITAC will meet on October 8, 2008, from 10 a.m. to 12 p.m., at 1120 20th Street, NW., 10th floor, Washington, DC 20036. The purpose of the meeting is to prepare advice for the U.S. government on the annual ITU Council Meeting, which will be held from November 12-21, 2008 at ITU headquarters in Geneva, Switzerland.

This meeting is open to the public as seating capacity allows. The public will have an opportunity to provide comments at this meeting. People desiring further information on these meeting may contact the Secretariat at jillsonad@state.gov or 202-647-5872.

Dated: September 15, 2008.
Richard C. Beaird,
International Communications & Information Policy, Department of State.

[FR Doc. E8-22104 Filed 9-19-08; 8:45 am]

BILLING CODE 4710-07-P